DEPARTMENT OF THE INTERIOR

National Park Service

[NPS-WASO-NAGPRA-NPS0036436; PPWOCRADN0-PCU00RP14.R50000]

Notice of Intent To Repatriate Cultural Item: University of Michigan, Ann Arbor, MI

AGENCY: National Park Service, Interior.

ACTION: Notice.

SUMMARY: In accordance with the Native American Graves Protection and Repatriation Act (NAGPRA), the University of Michigan intends to repatriate a certain cultural item that meets the definition of a sacred objects and that has a cultural affiliation with the Indian Tribes in this notice. The cultural item was removed from an unknown county within the Rio Grande Valley, TX, or NM.

DATES: Repatriation of the cultural item in this notice may occur on or after September 22, 2023.

ADDRESSES: Dr. Ben Secunda, NAGPRA Office Manager, University of Michigan, Office of Research, Suite G269A, Lane Hall, Ann Arbor, MI 48109-1274, telephone (734) 615-8936, email bsecunda@umich.edu.

SUPPLEMENTARY INFORMATION: This notice is published as part of the National Park Service's administrative responsibilities under NAGPRA. The determinations in this notice are the sole responsibility of the University of Michigan. The National Park Service is not responsible for the determinations in this notice. Additional information on the determinations in this notice, including the results of consultation, can be found in the summary or related records held by the University of Michigan.

Description

The one cultural item was removed from an unknown county within the Rio Grande Valley, TX, or NM, by Volney Jones, former Curator of Ethnology, University of Michigan Museum of Anthropological Archaeology (UMMAA). Prior to 1931, Jones conducted fieldwork with the Isleta Pueblo in and around New Mexico and El Paso, TX. Jones completed his Master's Thesis for the University of New Mexico on Isleta Pueblo ethnobotany. The cultural item is one lot of botanicals.

Cultural Affiliation

The cultural item in this notice is connected to one or more identifiable earlier groups, Tribes, peoples, or cultures. There is a relationship of shared group identity between the identifiable earlier groups, Tribes, peoples, or cultures and one or more Indian Tribes or Native Hawaiian organizations. The following types of information were used to reasonably trace the relationship: anthropological, folklore, geographical, historical, oral tradition, other relevant information, and expert opinion.

Determinations

Pursuant to NAGPRA and its implementing regulations, and after consultation with the appropriate Indian Tribes and Native Hawaiian organizations, the University of Michigan has determined that:

• The one cultural item described above is a specific ceremonial object needed by traditional Native American religious leaders for the practice of traditional Native American religions by their present-day adherents.

• There is a relationship of shared group identity that can be reasonably traced between the cultural item and the Pueblo of Isleta, New Mexico, and the Ysleta del Sur Pueblo.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after September 22, 2023. If competing requests for repatriation are received, the University of Michigan must determine the most appropriate requestor prior to repatriation. Requests for joint repatriation of the cultural item are considered a single request and not competing requests. The University of Michigan is responsible for sending a copy of this notice to the Indian Tribes identified in this notice.

Authority: Native American Graves Protection and Repatriation Act, 25 U.S.C. 3003, and the implementing regulations, 43 CFR 10.8, 10.10, and 10.14.

Dated: August 16, 2023.
Melanie O'Brien,
Manager, National NAGPRA Program.

[FR Doc. 2023-18135 Filed 8-22-23; 8:45 am]

BILLING CODE 4312-52-P